DEPARTMENT OF ENERGY

Federal Energy Regulatory Commission

[Project No. 2496-103]

Eugene Water and Electric Board; Notice Dismissing Request for Rehearing as Moot

June 1, 2005.

On August 23, 2004, the Eugene Water and Electric Board (Electric Board) filed a motion requesting an extension of time to comply with Articles 412 and 413 of the license for the Leaburg-Walterville Project No. 2496, which require filing plans to augment spawning gravel downstream of Leaburg dam and enhance fish habitat, respectively. On September 20, 2004, Commission staff issued an order granting the Electric Board's request. On October 18, 2004, the Oregon Department of Fish and Wildlife (Oregon DFW) filed a request for rehearing of the September 20 Order.

On November 1, 2004, Oregon DFW's request for rehearing of the September 20, 2004 Order was rejected by notice because Oregon DFW was not a party to the extension of time proceeding.¹ On November 26, 2004, Oregon DFW filed a request for rehearing of the November 1 notice.²

¹ Oregon DFW was not a party because it had not filed a notice of intervention.

² Oregon DFW's request for rehearing was accompanied by a notice of intervention.

On February 2, 2005, the Electric Board filed the gravel augmentation and fish habitat enhancement plans. By order issued on March 15, 2005, the Commission modified and approved the plans.³ Since both of the plans in question have been filed and approved, and no rehearing requests were filed on the Commission's March 15 Order, Oregon DFW's request for rehearing of the November 1, 2004 notice and the accompanying notice of intervention are moot. Accordingly, the Electric Board's request for rehearing of the November 1, 2004 notice and the accompanying notice of intervention dismissed as moot.

³ Eugene Water and Electric Board 110 FERC ¶ 62,263 (2005).

This notice constitutes final agency action. Request for rehearing by the Commission of this notice must be filed within 30 days of the date of issuance of this notice, pursuant to 18 CFR 385.713.

Magalie R. Salas,
Secretary.

[FR Doc. E5-2998 Filed 6-9-05; 8:45 am]

BILLING CODE 6717-01-P